DEPARTMENT OF COMMERCE

International Trade Administration

[C-357-821, C-560-831]

Biodiesel From Argentina and Indonesia: Final Results of Expedited First Sunset Reviews of the Countervailing Duty Orders

AGENCY: Enforcement and Compliance, International Trade Administration, Department of Commerce.

SUMMARY: As a result of these expedited sunset reviews, the U.S. Department of Commerce (Commerce) finds that revocation of the countervailing duty (CVD) orders on biodiesel from Argentina and Indonesia would be likely to lead to continuation or recurrence of countervailable subsidies at the levels indicated in the “Final Results of Sunset Review” section of this notice.

DATES: Applicable April 5, 2023.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On January 4, 2018, Commerce published the CVD orders on biodiesel from Argentina and Indonesia.¹ On March 1, 2022, Commerce published the notice of initiation of the first sunset reviews of the Orders, pursuant to section 751(c) of the Tariff Act of 1930, as amended (the Act).² Commerce received a timely notice of intent to participate from Clean Fuels Alliance Fair Trade Coalition ³ (Coalition) (the domestic interested party) within the deadline specified in 19 CFR 351.218(d)(1)(i).⁴ The domestic interested party claimed interested party status under section 771(9)(F) of the Act, as an association, a majority of whose members are manufacturers, producers, or wholesalers of a domestic like product in the United States.

¹ See Biodiesel from the Republic of Argentina and the Republic of Indonesia: Countervailing Duty Orders, 83 FR 522 (January 4, 2018) (Orders).

² See Initiation of Five-Year (Sunset) Reviews, 87 FR 11416 (March 1, 2022).

³ The Coalition members are: Clean Fuels Alliance America; Ag Processing Inc. a cooperative; Kolmar Americas, Inc.; Archer Daniels Midland Company; Cape Cod Biofuels; Crimson Renewable Energy LP; Minnesota Soybean Processors; Seaboard Energy, Inc.; Iowa Renewable Energy, LLC; Lake Erie Biofuels dba HERO BX; Renewable Biofuels, LLC; Renewable Energy Group, Inc.; Western Dubuque Biodiesel, LLC; Western Iowa Energy, LLC; World Energy, LLC; and Thumb BioEnergy LLC.

⁴ See Domestic Interested Party's Letter, “Five-Year (“Sunset”) Review of Antidumping and Countervailing Duty Orders on Biodiesel from Argentina: Notice of Intent to Participate,” dated December 16, 2022; see also Domestic Interested Party's Letter, “Five-Year (“Sunset”) Review of Antidumping and Countervailing Duty Orders on Biodiesel from Indonesia: Notice of Intent to Participate,” dated December 16, 2022.

Commerce received a substantive response from the domestic interested party within the 30-day deadline specified in 19 CFR 351.218(d)(3)(i).⁵ Commerce received no substantive response from any other interested parties in these proceedings. On January 25, 2023, Commerce notified the U.S. International Trade Commission that it did not receive adequate substantive responses from any respondent interested party in these proceedings.⁶ As a result, pursuant to section 751(c)(3)(B) of the Act and 19 CFR 351.218(e)(1)(ii)(C)(2), Commerce determined that the respondent interested party did not provide an adequate response to the notice of initiation and, therefore, Commerce conducted an expedited (120-day) sunset review of the Orders.

⁵ See Domestic Interested Party's Letters, “Biodiesel from Argentina: Substantive Response of the Clean Fuels Alliance Fair Trade Coalition to Commerce's Notice of Initiation of the First Five Year (“Sunset”) Review of the Countervailing Duty Order,” dated January 3, 2023 (Domestic Interested Party's Argentina Substantive Response); and “Biodiesel from Indonesia: Substantive Response of the Clean Fuels Alliance Fair Trade Coalition to Commerce's Notice of Initiation of the First Five Year (“Sunset”) Review of the Countervailing Duty Order,” dated January 3, 2023 (Domestic Interested Party's Indonesia Substantive Response).

⁶ See Commerce's Letter, “Sunset Reviews Initiated December 1, 2022,” dated January 25, 2023.

Scope of the Orders

The product covered by the Orders is biodiesel from Argentina and Indonesia. For a complete description of the scope of the Orders, see the Issues and Decision Memoranda.⁷

⁷ See Memorandum, “Issues and Decision Memorandum for the Expedited First Sunset Review of the Countervailing Duty Order on Biodiesel from Argentina,” dated concurrently with, and hereby adopted by, this notice; see also Issues and Decision Memorandum for the Expedited First Sunset Review of the Countervailing Duty Order on Biodiesel from Indonesia,” dated concurrently with, and hereby adopted by, this notice (collectively, Issues and Decision Memoranda).

Analysis of Comments Received

All issues raised in these sunset reviews are addressed in the Issues and Decision Memoranda. A list of topics discussed in each Issues and Decision Memoranda is included as the appendix to this notice. The Issues and Decision Memoranda are public documents and are on file electronically via the Enforcement and Compliance's Antidumping and Countervailing Duty Centralized Electronic Service System (ACCESS). ACCESS is available to registered users at https://access.trade.gov. In addition, complete versions of the Issues and Decision Memoranda can be accessed directly at https://access.trade.gov/public/FRNoticesListLayout.aspx.

Final Results of Sunset Reviews

Pursuant to sections 751(c)(1) and 752(b) of the Act, Commerce determines that revocation of the CVD order on biodiesel from Argentina would be likely to lead to continuation or recurrence of countervailable subsidies at the following rates:

⁸ In the final determination of the CVD investigation, Commerce found the following companies to be cross-owned with LDC Argentina S.A.: LDC Semillas S.A. and Semillas del Rosario S.A. See Orders, 83 FR at 522.

⁹ In the final determination of the CVD investigation, Commerce found the following companies to be cross-owned with Vicentin S.A.I.C.: Oleaginosa San Lorenzo S.A. and Los Amores S.A. See Orders, 83 FR at 522.

Company | Subsidy rate (percent ad valorem)
LDC Argentina S.A ⁸ | 72.28
Vicentin S.A.I.C ⁹ | 71.45
All Others | 71.87

Pursuant to sections 751(c)(1) and 752(b) of the Act, Commerce determines that revocation of the CVD order on biodiesel from Indonesia would be likely to lead to continuation or recurrence of countervailable subsidies at the following rates:

Company | Subsidy rate (percent ad valorem)
Wilmar Trading Co., Ltd | 34.45
PT Musim Mas | 64.73
All Others | 38.95

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

Commerce is issuing and publishing the final results and this notice in accordance with sections 751(c), 752(b), and 777(i)(1) of the Act, and 19 CFR 351.218(e)(1)(ii)(C)(2).

Dated: March 29, 2023.
Abdelali Elouaradia,
Deputy Assistant Secretary for Enforcement and Compliance.

Appendix

List of Topics Discussed in the Issues and Decision Memoranda

I. Summary

II. Background

III. Scope of the Order

IV. History of the Order

V. Legal Framework

VI. Discussion of the Issues

1. Likelihood of Continuation or Recurrence of Countervailable Subsidies

2. Net Countervailable Subsidy Rates Likely to Prevail

3. Nature of the Subsidies

VII. Final Results of Sunset Review

VIII. Recommendation

[FR Doc. 2023-07040 Filed 4-4-23; 8:45 am]

BILLING CODE 3510-DS-P